DEFENSE NUCLEAR FACILITIES SAFETY BOARD

Sunshine Act Notice

AGENCY: Defense Nuclear Facilities Safety Board.

ACTION: Notice of Public Meeting and Hearing.

SUMMARY: Pursuant to the provisions of the Government in the Sunshine Act, notice is hereby given of the Defense Nuclear Facilities Safety Board's (Board) public meeting and hearing described below. The Board invites any interested persons or groups to present any comments, technical information, or data concerning safety issues related to the matters to be considered.

DATES: Session I: 12:00 p.m.-1:00 p.m., Session II: 1:00 p.m.-4:00 p.m., Session III: 5:30 p.m.-7:30 p.m., Session IV: 7:30 p.m.-9:00 p.m.; April 29, 2015.

ADDRESSES: Walter Gerrells Performing Arts and Exhibition Center, 4012 National Parks Highway, Carlsbad, New Mexico 88220.

STATUS: Open. The Board has determined that an open meeting furthers the public interest underlying both the Government in the Sunshine Act and the Board's enabling legislation. The proceeding is being noticed as both a meeting under the Government in the Sunshine Act and a hearing under the Board's enabling legislation. At the conclusion of Session IV, the Board is expected to deliberate and then vote on a staff proposal. Deliberations and voting will proceed in accordance with the Board's operating procedures concerning the conduct of meetings.

MATTERS TO BE CONSIDERED: In Session I of this public meeting and hearing, the Board will receive testimony from a senior Department of Energy (DOE) official regarding actions taken by DOE to safely recover the Waste Isolation Pilot Plant (WIPP) underground from events following a salt haul truck fire on February 5, 2014, and a separate radiological release on February 14, 2014. Testimony is also expected to focus on the progress of implementation of corrective actions to resume safe waste operations. Directly following Session I, the Board's staff will present testimony to the Board concerning actions taken by the Board before and after the two accidents, and give an update of ongoing Board staff oversight activities. During Session II, the Board will receive testimony from a panel of senior managers from DOE Office of Environmental Management (EM), DOE Carlsbad Field Office (CBFO), and the site contractor—Nuclear Waste Partnership (NWP). The Board will first explore actions planned, and taken, by DOE to address the seven key elements in the WIPP recovery plan, and how compensatory measures implemented under safety management programs such as emergency preparedness and response will protect workers and the public during recovery activities. The Board will also consider the issue of how DOE will manage external pressure to resume waste operations without compromising the safety attributes of the plan's key elements. The Board will then examine DOE's safety basis strategy for WIPP recovery operations and upgrades, including the criteria for determining whether upgrades need to be planned and executed as major modifications. This will include actions being taken by DOE and the site contractor to ensure that hazards during the recovery phases are properly analyzed in Evaluations of the Safety of the Situation, and controls are properly identified and implemented. The final topic in Session II concerns DOE's strategy for providing adequate federal oversight during the recovery phase. In Session III, the Board will again receive testimony from a panel comprised of senior managers from DOE EM, CBFO, NWP, and the WIPP Accident Investigation Board Chairman. The Board will receive testimony on actions to correct deficiencies in key safety management programs such as emergency management, maintenance and engineering, fire protection, and nuclear safety. The Board will end Session III with a discussion of DOE's strategy for improving the effectiveness of federal oversight of contractor activities, including specific actions to ensure that improvements made by the site contractor and DOE are sustained over the long term. In Session IV, the Board will conclude the proceeding with testimony from its senior staff regarding an update to the public on the Board's proposed oversight actions associated with safe recovery of the underground, and oversight of corrective actions to resume and sustain safe waste operations. The Board is then expected to conduct deliberations concerning the staff's proposed oversight plan. The meeting will conclude with the Board's vote on the staff's recommendation.

FOR FURTHER INFORMATION CONTACT: Mark Welch, General Manager, Defense Nuclear Facilities Safety Board, 625 Indiana Avenue NW., Suite 700, Washington, DC 20004-2901, (800) 788-4016. This is a toll-free number.

SUPPLEMENTARY INFORMATION: Public participation in the hearing is invited. The Board is setting aside time at the end of Sessions II and III for presentations and comments from the public. The public will be given one final opportunity for comment before the Board begins deliberations in Session IV. Requests to speak may be submitted in writing or by telephone. The Board asks that commenters describe the nature and scope of their oral presentations. Those who contact the Board prior to close of business on April 24, 2015, will be scheduled to speak at the session of the hearing most relevant to their presentations. At the beginning of the hearing, the Board will post a schedule for speakers at the entrance to the hearing room. Anyone who wishes to comment or provide technical information or data may do so in writing, either in lieu of, or in addition to, making an oral presentation. The Board Members may question presenters to the extent deemed appropriate. Documents will be accepted at the hearing or may be sent to the Board's Washington, DC office. The Board will hold the record open until May 25, 2015, for the receipt of additional materials. The hearing will be presented live through Internet video streaming. A link to the presentation will be available on the Board's Web site (www.dnfsb.gov). A transcript of the hearing, along with a DVD video recording, will be made available by the Board for inspection and viewing by the public at the Board's Washington office and at DOE's public reading room at the DOE Federal Building, 1000 Independence Avenue SW., Washington, DC 20585. The Board specifically reserves its right to further schedule and otherwise regulate the course of the meeting and hearing, to recess, reconvene, postpone, or adjourn the meeting and hearing, conduct further reviews, and otherwise exercise its power under the Atomic Energy Act of 1954, as amended.

Dated: March 30, 2015.
Jessie H. Roberson,
Vice Chairman.

[FR Doc. 2015-07648 Filed 3-31-15; 11:15 am]

BILLING CODE CODE 3670-01-P